DEPARTMENT OF TRANSPORTATION

Federal Railroad Administration

Agency Information Collection Activities

AGENCY: Federal Railroad Administration, DOT.

ACTION: Notice of OMB approvals.

SUMMARY: In compliance with the Paperwork Reduction Act of 1995 (44 U.S.C. 3501 et seq.) and 5 CFR 1320.5(b), this notice announces that new information collections requirements (ICRs) listed below have been approved by the Office of Management and Budget (OMB). These ICRs pertain to 49 CFR part 214. Additionally, FRA hereby announces that other ICRs listed below have been re-approved by the Office of Management and Budget (OMB). These ICRs pertain to parts 207, 209, 210, 212, 214, 215, 217, 218, 221, 223, 228, 232, 234, and 236. The OMB approval numbers, titles, and expiration dates are included herein under supplementary information.

FOR FURTHER INFORMATION CONTACT: Mr. Robert Brogan, Office of Planning and Evaluation Division, RRS-21, Federal Railroad Administration, 1120 Vermont Ave., NW., Mail Stop 17, Washington, DC 20590 (telephone: (202) 493-6292), or Debra Steward, Office of Information Technology and Productivity Improvement, RAD-20, Federal Railroad Administration, 1120 Vermont Ave., NW., Mail Stop 35, Washington, DC 20590 (telephone: (202) 493-6139). (These telephone numbers are not toll-free.)

SUPPLEMENTARY INFORMATION: The Paperwork Reduction Act of 1995 (PRA), Pub. L. No. 104-13, sec. 2, 109 Stat. 163 (1995) (codified as revised at 44 U.S.C. 3501-3520), and its implementing regulations, 5 CFR part 1320, require Federal agencies to display OMB control numbers and inform respondents of their legal significance once OMB approval is obtained. The following new FRA information collections were approved: (1) OMB No. 2130-0539, Railroad Worker Protection: Roadway Maintenance Machines (49 CFR Part 214) (Final Rule). The expiration date for this information collection is February 28, 2007. (2) OMB No. 2130-0558, Work Schedules and Sleep Patterns of Railroad Signalmen (Forms FRA F 6180.107/108). The expiration date for this information collection is October 31, 2006.

The following information collections were re-approved: (1) OMB No. 2130-0008, Inspection Brake System Safety Standards for Freight and Other Non-Passenger Trains and Equipment (Power Brakes and Drawbars) (Part 232). The new expiration date for this information collection is January 31, 2007. (2) OMB No. 2130-0017, U.S. DOT Crossing Inventory Form (Form FRA F 6180.71). The new expiration date for this information collection is July 31, 2006. (3) OMB No. 2130-0506, Identification of Cars Moved in Accordance with Order 13528). The new expiration date for this information collection is July 31, 2006. (4) OMB No. 2130-0526, Control of Alcohol and Drug Use in Railroad Operations (Part 219)(Forms FRA F 6180.73/74/94A/95B). The new expiration date for this information collection is February 28, 2007. (5) OMB No. 2130-0537, Railroad Police Officers (Part 207). The new expiration date for this information collection is September 30, 2006. (6) OMB No. 2130-0006, Railroad Signal System Requirements (Part 236) (Forms FRA F 6180.14/47). The new expiration date for this information collection is October 31, 2006. (7) OMB No. 2130-0502, Filing of Dedicated Cars (Part 215). The new expiration date for this information collection is September 30, 2006. (8) OMB No. 2130-0516, Remotely Controlled Operations (Part 218). The new expiration date for this information collection is October 31, 2006. (9) OMB No. 2130-0519, Bad Order and Home Shop Card (Part 215). The new expiration date for this information collection is September 30, 2006. (10) OMB No. 2130-0520, Stenciling Reporting Mark (Part 215). The new expiration date for this information collection is September 30, 2006. (11) OMB No. 2130-0527, Locomotive Certification (Noise Compliance Regulations) (Part 210). The new expiration date for this information collection is September 30, 2006. (12) OMB No. 2130-0529, Disqualification Proceedings (Part 209). The new expiration date for this information collection is October 31, 2006. (13) OMB No. 2130-0534, Grade Crossing Signal System Safety (Part 234) (Form FRA F 6180.83). The new expiration date for this information collection is September 30, 2006. (14) OMB No. 2130-0035, Railroad Operating Procedures (Part 217). The new expiration date for this information collection is September 30, 2006. (15) OMB No. 2130-0523, Rear-End Marking Devices (Part 221). The new expiration date for this information collection is September 30, 2006. (16) OMB No. 2130-0535, Bridge Worker Safety Rules (Part 214). The new expiration date for this information collection is September 30, 2006. (17) OMB No. 2130-0509, State Safety Participation Regulations and Remedial Actions (Part 212) (Forms FRA F 6180.33/61/67/96/96A/109/110/111/112). The new expiration date for this information collection is November 30, 2006. (18) OMB No. 2130-0525, Certification of Glazing Materials (Part 223). The new expiration date for this information collection is November 30, 2006. (19) OMB No. 2130-0005, Hours of Service Regulations (Part 228) (Form FRA F 6180.3). The new expiration date for this information collection is December 31, 2006. (20) OMB No. 2130-0551, Regional Inspection Point Listing Forms. (Forms FRA F 6180.106(A)-(E)) The new expiration date for this information collection is January 31, 2007.

Persons affected by the above referenced information collections are not required to respond to any collection of information unless it displays a currently valid OMB control number. These approvals by the Office of Management and Budget (OMB) certify that FRA has complied with the provisions of the Paperwork Reduction Act of 1995 (Pub. L. 104-13) and with 5 CFR 1320.5(b) by informing the public about OMB's approval of the information collection requirements of the above cited forms and regulations.

Authority: 44 U.S.C. 3501-3520.

Issued in Washington, DC, on March 9, 2004.
Maryann Johnson,
Acting Director, Office of Information Technology and Support Systems, Federal Railroad Administration.

[FR Doc. 04-5792 Filed 3-12-04; 8:45 am]

BILLING CODE 4910-06-P